POSTAL SERVICE

Classification Changes—First-Class Package International Service: Postal ServiceTM

ACTION: Notice of classification changes to First-Class Package International Service.

SUMMARY: This notice set forth changes for the classification description of Outbound Single-Piece First-Class Package International Service.

DATES: Date of notice: May 26, 2021.

FOR FURTHER INFORMATION CONTACT: Christopher C. Meyerson, (202) 268-7820.

SUPPLEMENTARY INFORMATION: On May 6, 2021, pursuant to their authority under 39 U.S.C. 3632, the Governors of the United States Postal Service® established classification changes for a competitive product, namely, Outbound Single-Piece First-Class Package International Service. The Governors' Decision and the record of proceedings in connection with such decision are reprinted below in accordance with 39 U.S.C. 3632(b)(2).

Joshua J. Hofer,
Attorney, Ethics & Legal Compliance.

Decision of the Governors of the United States Postal Service on Mail Classification Schedule Changes Related to the Outbound Commercial Provider Initiative (OCPI) (Governors' Decision No. 21-4)

May 6, 2021

Statement of Explanation and Justification

Pursuant to our authority under section 404(b) and Chapter 36 of title 39, United States Code, the Governors establish classification changes related to the Outbound Commercial Provider Initiative (OCPI).

The OCPI would allow the Postal Service to offer outbound international service for package shipments through the use of a supplier in lieu of the destination country postal operator. OCPI is designed to help the Postal Service remain competitive in the cross-border shipping market, by providing the ability for delivery in the destination country of certain outbound international products by a third-party supplier, instead of the designated foreign postal operator of the destination country. This provides the Postal Service the option of selecting providers that may be able to offer either superior service or better destination delivery prices, or both.

In order to implement the OCPI, revisions to the Mail Classification Schedule (MCS) should be made. These changes to the MCS would not mandate the use of the OCPI, but rather maintain flexibility to allow its use in particular outbound international traffic lanes.

We have evaluated the classification changes related to the OCPI for the Outbound Single-Piece First-Class Package International Service product in this context in accordance with Title 39 of the United States Code. We approve the changes, finding that they are appropriate, and are consistent with the applicable criteria.

Order

We direct management to provide the required public notice, and to file with the Postal Regulatory Commission the required documents and supporting documents consistent with this Decision. The changes in classification to the Mail Classification Schedule set forth herein are intended to be effective thirty days after the material MCS changes are filed with the Postal Regulatory Commission, or as soon as practicable thereafter.

By The Governors:

/s/

Ron A. Bloom,

Chairman, Board of Governors.

United States Postal Service

Office of the Board of Governors

Certification of Governors' Vote on Governors' Decision No. 21-4

Consistent with 39 U.S.C. 3632(a), I hereby certify that, on May 6, 2021, the Governors voted on adopting Governors' Decision No. 21-4, and that a majority of the Governors then holding office voted in favor of that Decision.

Date: May 6, 2021

/s/

Michael J. Elston,

Secretary of the Board of Governors.

[FR Doc. 2021-11104 Filed 5-25-21; 8:45 am]

BILLING CODE 7710-12-P